FEDERAL COMMUNICATIONS COMMISSION

Sunshine Act Meeting; Open Commission Meeting

Thursday, August 3, 2000.

The Federal Communications Commission will hold an Open Meeting on the subjects listed below on Thursday, August 3, 2000, which is scheduled to commence at 9:30 a.m. in Room TW-C305, at 445 12th Street, SW., Washington, DC.

Item No. | Bureau | Subject
1 | Wireless Telecommunications | Title: Implementation of Section 6002(b) of the Omnibus Budget Reconciliation Act of 1993; and Annual Report and Analysis of Competitive Market Conditions with Respect to Commercial Mobile Services.
|  | Summary: The Commission will consider a Fifth Report on competitive conditions affecting the competitive mobile radio services industry.
2 | Common Carrier, Cable Services, International, Wireless Telecommunications, Office of Engineering and Technology, and Office of Plans and Policy | Title: Inquiry Concerning the Deployment of Advanced Telecommunications Capability to All Americans in a Reasonable and Timely Fashion, and Possible Steps to Accelerate Such Deployment Pursuant to Section 706 of the Telecommunications Act of 1996 (CC Docket No. 98-146). Summary: The Commission will consider a Report concerning the deployment of advanced telecommunications capability to all Americans
3 | Common Carrier | Title: Deployment of Wireline Services Offering Advanced Telecommunications Capability (CC Docket No. 98-147).
|  | Summary: The Commission will consider an Order on Reconsideration and Second Further Notice of Purposed Rule Making regarding the collocation obligations of incumbent LECs.
4 | International | Title: Applications of INTELSAT LLC for Authority to Operate and to Further Construct, Launch, and Operate C-band and Ku-band Satellites that Form a Global Communications System in Geostationary Orbit (File Nos. SAT-A/O-20000119-00002 to SAT-A/O-20000119-00018; SAT-AMD-20000119-00029 to SAT-AMD-20000119-00041; SAT-LOA-20000119-00019 to SAT-LOA-20000119-00028).
|  | Summary: The Commission will consider a Memorandum Opinion Order and Authorization concerning applications requesting (1) licenses to operate 17 existing C-band and Ku-band satellites, presently owned and operated by the International Telecommunications Satellite Organization (INTELSAT); (2) licenses to construct, launch and operate 10 planned satellites by INTELSAT for operation in these bands; and (3) for authority to relocate certain currently operating satellites to other orbit locations upon the launch of planned satellites.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its_inc@ix.netcom.com. Their Internet address is http://www.itsdocs.com/.

This meeting can be viewed over George Mason University's Capitol Connection. The Capitol Connection also will carry the meeting live via the Internet. For information on these services call (703) 993-3100. The audio portion of the meeting will be broadcast live on the Internet via the FCC's Internet audio broadcast page at ­<http://www.fcc.gov/realaudio/>. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
Magalie Roman Salas,
Secretary.

[FR Doc. 00-19610 Filed 7-28-00; 5:07 pm]

BILLING CODE 6712-01-M